DEPARTMENT OF COMMERCE

International Trade Administration

[A-533-843]

Certain Lined Paper Products From India: Final Results of Antidumping Duty Administrative Review; 2014-2015

AGENCY: Enforcement and Compliance, International Trade Administration, Department of Commerce.

SUMMARY: On October 14, 2016, the Department of Commerce (the Department) published the Preliminary Results of the administrative review of the antidumping duty order on certain lined paper products (CLPP) from India. The period of review (POR) is September 1, 2014, through August 31, 2015. This review covers two mandatory respondents, Kokuyo Riddhi Paper Products Private Limited (Kokuyo Riddhi) and Navneet Education Limited (Navneet). For these final results, we find that neither Kokuyo Riddhi nor Navneet made sales below normal value during the POR. See the “Final Results of the Review” section below.

DATES: Effective March 17, 2017.

FOR FURTHER INFORMATION CONTACT: Cindy Robinson for Navneet and George McMahon for Kokuyo Riddhi, AD/CVD Operations, Office III, Enforcement and Compliance, International Trade Administration, U.S. Department of Commerce, 1401 Constitution Avenue NW., Washington, DC 20230; telephone (202) 482-3797 or (202) 482-1167, respectively.

SUPPLEMENTARY INFORMATION:

Background

On September 7, 2016, Petitioner submitted new factual information regarding Navneet's U.S. sales data.¹ Given the timing of the submission, the Department could not address this new factual information in the Preliminary Results.² The Department invited interested parties to submit comments no later than October 24, 2016,³ and to submit follow-up comments as part of their case and rebuttal briefs no later than November 14, 2016, and November 21, 2016, respectively.⁴ On October 24, 2016, Navneet submitted comments on the new factual information.⁵ On November 3, 2016, Petitioner submitted rebuttal comments regarding the new factual information.⁶

¹ See Petitioner's letter titled, “Certain Lined Paper Products from India: General New Factual Information Submission,” dated September 7, 2016.

² See Certain Lined Paper Products from India: Notice of Preliminary Results of Antidumping Duty Administrative Review; 2014-2015, 81 FR 71046 (October 14, 2016) (Preliminary Results), and accompanying Memorandum to Ronald K. Lorentzen, Acting Assistant Secretary for Enforcement and Compliance, from Christian Marsh, Deputy Assistant Secretary for Antidumping and Countervailing Duty Operations, titled “Decision Memorandum for the Preliminary Results of the Antidumping Duty Administrative Review: Certain Lined Paper Products from India; 2014-2015,” dated October 5, 2016 (Preliminary Decision Memorandum). The Preliminary Decision Memorandum can be accessed directly at: http://enforcement.trade.gov/frn/index.html.

³ See Letter titled, “Filings by the Association of American School Paper Suppliers (Petitioners) and Navneet Education Ltd. (Navneet) Concerning Navneet's Alleged Under Reporting of U.S. Sales,” dated September 27, 2016.

⁴ See Letter titled, “New Factual Information Filed by the Association of American School Paper Suppliers (Petitioner) and Extension of Deadline to Submit New Factual Information Pertaining to Navneet Education Ltd.'s (Navneet) Sales Reporting,” dated September 27, 2016.

⁵ See Navneet's letter titled, “Certain Lined Paper Products from India: Response of Navneet Education Limited to Non-Reported Sales Allegation,” dated October 24, 2016.

⁶ See Petitioner's letter titled, “Certain Lined Paper Products from India: Response Comments to Navneet's New Factual Information Related to Unreported U.S. Sales; Extension Request for the Case Briefs,” dated November 3, 2016.

On October 14, 2016, the Department published the Preliminary Results. On November 14, 2016, Kokuyo Riddhi ⁷ and Navneet timely submitted their case briefs.⁸ On November 21, 2016, Navneet submitted its rebuttal brief.⁹ On November 14, 2016, Petitioner submitted a request for a hearing, which it subsequently withdrew on December, 15, 2016.¹⁰ On February 6, 2017, the Department postponed the final results by 30 days, until March 13, 2017.¹¹

⁷ The Department has determined that Kokuyo Riddhi Paper Products Private Limited (Kokuyo Riddhi) is the successor-in-interest to Riddhi Enterprises. See Certain Lined Paper Products from India: Notice of Final Results of Antidumping Duty Changed Circumstances Review, 80 FR 18373 (April 6, 2015) (Final Results of CCR—Kokuyo Riddhi), and the accompanying Issues and Decision Memorandum. Accordingly, we refer to Kokuyo Riddhi and Riddhi Enterprises as Kokuyo Riddhi in this review.

⁸ See Kokuyo Riddhi's letter titled, “Certain Lined Paper Products from India: Kokuyo Riddhi Case Brief,” dated November 14, 2016; see also Navneet's letter titled, “Certain Lined Paper Products from India: Case Brief of Navneet Education Limited,” dated November 14, 2016; see also Petitioner's letter titled, “Certain Lined Paper Products from India: Case Brief,” dated November 14, 2016.

⁹ See Navneet's letter titled, “Certain Lined Paper Products from India: Rebuttal Brief of Navneet Education Limited,” dated November 21, 2016.

¹⁰ See Petitioner's letter titled, “Certain Lined Paper Products from India: Hearing Request,” dated November 14, 2016; see also Memorandum to the File titled, “Petitioner's Request for a Meeting in Lieu of a Hearing,” dated December 19, 2016.

¹¹ See Memorandum titled “Certain Lined Paper Products from India: Extension of Time Limit for Final Results of Antidumping Duty Administrative Review; 2014-2015,” dated February 3, 2017. Postponing the final results by 30 days would place the deadline on Sunday, March 12, 2017. The Department's practice dictates that where a deadline falls on a weekend or federal holiday, the appropriate deadline is the next business day. See Notice of Clarification: Application of “Next Business Day” Rule for Administrative Determination Deadlines Pursuant to the Tariff Act of 1930, As Amended, 70 FR 24533 (May 10, 2005).

Scope of the Order

The merchandise covered by the order is certain lined paper products. The merchandise subject to this order is currently classified under the following Harmonized Tariff Schedule of the United States (HTSUS) subheadings: 4811.90.9035, 4811.90.9080, 4820.30.0040, 4810.22.5044, 4811.90.9050, 4811.90.9090, 4820.10.2010, 4820.10.2020, 4820.10.2030, 4820.10.2040, 4820.10.2050, 4820.10.2060, and 4820.10.4000. Although the HTSUS numbers are provided for convenience and customs purposes, the written product description remains dispositive.¹²

¹² For a complete description of the Scope of the Order, see Memorandum from Gary Taverman, Associate Deputy Assistant Secretary for Antidumping and Countervailing Duty Operations, to Ronald K. Lorentzen, Acting Assistant Secretary for Enforcement and Compliance, titled “Certain Lined Paper Products from India: Issues and Decision Memorandum for the Final Results of Antidumping Duty Administrative Review; 2014-2015,” dated concurrently with and hereby adopted by this notice (“Issues and Decision Memorandum”).

Analysis of Comments Received

All issues raised in the case and rebuttal briefs by parties to this administrative review are addressed in the Issues and Decision Memorandum. A list of the issues that parties raised and to which we responded is attached to this notice as an Appendix. The Issues and Decision Memorandum is a public document and is on-file electronically via Enforcement and Compliance's Antidumping and Countervailing Duty Centralized Electronic Service System (ACCESS). ACCESS is available to registered users at https://access.trade.gov and in the Central Records Unit (CRU), room B8024 of the main Department of Commerce building. In addition, a complete version of the Issues and Decision Memorandum can be accessed directly on the Internet at http://enforcement.trade.gov/frn/index.html. The signed Issues and Decision Memorandum and the electronic versions of the Issues and Decision Memorandum are identical in content.

Changes Since the Preliminary Results

Based on a review of the record and comments received from interested parties regarding our Preliminary Results, we made the following company-specific changes to Navneet's final margin calculation: (1) We made changes to the SAS Comparison Market and Margin Programs for the beginning date for U.S. sales; (2) we corrected the margin program by applying the U.S. dollar denomination for the duty drawback credit; and (3) we corrected the comparison market program by applying the net quantity NTQTY2H, net of returns, as the home market sales quantity. We also corrected the draft liquidation instructions for both Navneet and Kokuyo Riddhi. As a result of these changes, the weighted-average dumping margin for Navneet and the non-selected companies has changed.

Final Results of the Review

As a result of this review, the Department calculated a dumping margin of zero for both Kokuyo Riddhi and Navneet. We are applying to the non-selected companies the rates calculated for the mandatory respondents in these final results, as referenced below.¹³

¹³ See Albemarle Corp. & Subsidiaries v. United States, 821 F.3d 1345 (Fed. Cir. 2016) (Albemarle).

Producer/exporter | Weighted -average dumping margin (percent)
Kokuyo Riddhi Paper Products Private Limited | 0.00
Navneet Education Ltd | 0.00
Goldenpalm Manufacturers PVT Limited | 0.00
Magic International Pvt. Ltd | 0.00
Marisa International (Marisa) | 0.00
Pioneer Stationery Pvt Ltd (Pioneer) | 0.00
SGM Paper Products | 0.00

Duty Assessment

The Department shall determine and Customs and Border Protection (CBP) shall assess antidumping duties on all appropriate entries.¹⁴ Pursuant to the Final Modification for Reviews, because the above-listed respondents' weighted-average dumping margins are zero, we will instruct CBP to liquidate the appropriate entries without regard to antidumping duties.¹⁵ We intend to issue assessment instructions directly to CBP 15 days after publication of the final results of this review.

¹⁴ In these Final Results, the Department applied the assessment rate calculation method adopted in Antidumping Proceedings: Calculation of the Weighted-Average Dumping Margin and Assessment Rate in Certain Antidumping Proceedings: Final Modification, 77 FR 8101 (February 14, 2012) (Final Modification for Reviews).

¹⁵ Id., 77 FR at 8102.

Cash Deposit Requirements

The following cash deposit requirements will be effective upon publication of the notice of final results of administrative review for all shipments of subject merchandise entered, or withdrawn from warehouse, for consumption on or after the publication date of the final results of this administrative review, as provided by section 751(a)(2) of the Tariff Act of 1930, as amended (the Act): (1) The cash deposit rate for respondents noted above will be the rate established in the final results of this administrative review; (2) for merchandise exported by manufacturers or exporters not covered in this administrative review but covered in a prior segment of the proceeding, the cash deposit rate will continue to be the company specific rate published for the most recently completed segment of this proceeding; (3) if the exporter is not a firm covered in this review, a prior review, or the original investigation, but the manufacturer is, the cash deposit rate will be the rate established for the most recently completed segment of this proceeding for the manufacturer of the subject merchandise; and (4) the cash deposit rate for all other manufacturers or exporters will continue to be 3.91 percent, the all-others rate established in the original antidumping duty investigation.¹⁶ These cash deposit requirements, when imposed, shall remain in effect until further notice.

¹⁶ See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006) (CLPP Order).

Notification to Importers Regarding the Reimbursement of Duties

This notice also serves as a final reminder to importers of their responsibility under 19 CFR 351.402(f) to file a certificate regarding the reimbursement of antidumping and/or countervailing duties prior to liquidation of the relevant entries during the POR. Failure to comply with this requirement could result in the Department's presumption that reimbursement of antidumping and/or countervailing duties occurred and the subsequent assessment of doubled antidumping duties.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

We are issuing and publishing this notice in accordance with sections 751(a)(1) and 777(i)(1) of the Act and 19 CFR 351.213(h).

Dated: March 13, 2017.
Ronald K. Lorentzen,
Acting Assistant Secretary for Enforcement and Compliance.

Appendix

List of Topics Discussed in the Final Decision Memorandum

I. Summary

II. List of Comments

III. Background

IV. Scope of the Order

V. Analysis of Comments

Comments Concerning Navneet

1. Completeness and Accuracy of the Reported U.S. Sales Data

2. Adjustment for the Beginning Date of U.S. Sales in the Margin Program

3. Adjustment for Unreimbursed Indian Excise Tax Credit

4. Revision to Duty Drawback Denomination in the SAS Margin Program

5. Revision to Incorrect Quantity (QTYH) in the SAS Comparison Market Program

6. Revision to Importer-Specific Rates in the Liquidation Instructions

Comment Concerning Kokuyo Riddhi

7. Inclusion of a Customer Name in Kokuyo Riddhi's Liquidation Instructions

VI. Recommendation

[FR Doc. 2017-05357 Filed 3-16-17; 8:45 am]

BILLING CODE 3510-DS-P